DEPARTMENT OF ENERGY

Federal Energy Regulatory Commission

[Project No: 349-133]

Alabama Power Company; Notice of Application For Amendment of License and Soliciting Comments, Motions To Intervene, and Protests

August 22, 2007.

Take notice that the following application has been filed with the Commission and is available for public inspection:

a. Application Type: Non-Project Use of Project Lands and Waters.

b. Project No: 349-133.

c. Date Filed: August 8, 2007.

d. Applicant: Alabama Power Company.

e. Name of Project: Martin Dam Hydroelectric Project.

f. Location: Lake Martin in Tallapoosa County, Alabama. This project does not occupy any federal or tribal lands.

g. Filed Pursuant to: Federal Power Act, 16 U.S.C. 791 (a) 825(r) and 799 and 801.

h. Applicant Contact: Mr. Keith E. Bryant, Sr., Engineer, Hydro Services, Alabama Power, 600 North 18th Street, Post Office Box 2641, Birmingham, Alabama, 35291, (205) 257-1403.

i. FERC Contacts: Any questions on this notice should be addressed to Ms. Shana High at (202) 502-8674.

j. Deadline for filing comments and or motions: September 24, 2007.

All documents (original and eight copies) should be filed with: The Secretary, Federal Energy Regulatory Commission, 888 First Street, NE., Washington DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Proposal: Alabama Power Company is requesting Commission approval to permit DEP Land Company, LLC to use project lands to install additional facilities associated with its Cove Restaurant. Specifically, DEP Land Company, LLC would like to construct a floating dock structure to accommodate eight boats and ten-personal watercraft. The proposed facilities will be for use by customers of the restaurant. Alabama Power Company is also requesting that the Commission authorize it to permit existing residential facilities, that are within the project boundary, for commercial use. Existing facilities include a concrete block seawall and a timber bulkhead seawall for shoreline protection, a stationary wooden pier, a floating wooden platform, and an asphalt and concrete boat ramp that are currently permitted for individual, non-commercial use.

l. Location of the Applications: This filing is available for review at the Commission or may be viewed on the Commission's Web site at http://www.ferc.gov, using the “eLibrary” link. Enter the docket number (P-349) excluding the last three digits in the docket number field to access the document. You may also register online at http://www.ferc.gov/docs-filing/esubscription.asp to be notified via e-mail of new filings and issuances related to this or other pending projects. For assistance, contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, OR “MOTION TO INTERVENE”, as applicable, and the Project Number of the particular application to which the filing refers.

p. Agency Comments—Federal, state, and local agencies are invited to file comments on the described applications. A copy of the applications may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-17247 Filed 8-30-07; 8:45 am]

BILLING CODE 6717-01-P